DEPARTMENT OF VETERANS AFFAIRS

[OMB Control No. 2900-0609]

Agency Information Collection Activities Under OMB Review

AGENCY: Veterans Health Administration, Department of Veterans Affairs

ACTION: Notice.

SUMMARY: In compliance with the Paperwork Reduction Act (PRA) of 1995 (44 U.S.C., 3501 et seq.), this notice announces that the Veterans Health Administration (VHA), Department of Veterans Affairs, has submitted the collection of information abstracted below to the Office of Management and Budget (OMB) for review and comment. The PRA submission describes the nature of the information collection and its expected cost and burden; it includes the actual data collection instrument.

DATES: Comments must be submitted on or before January 30, 2003.

FOR FURTHER INFORMATION OR A COPY OF THE SUBMISSION CONTACT: Denise McLamb, Records Management Service (005E3), Department of Veterans Affairs, 810 Vermont Avenue, NW., Washington, DC 20420, (202) 273-8030, FAX (202) 273-5981 or e-mail: denise.mclamb@mail.va.gov. Please refer to “OMB Control No. 2900-0609.”

Send comments and recommendations concerning any aspect of the information collection to VA's OMB Desk Officer, OMB Human Resources and Housing Branch, New Executive Office Building, Room 10235, Washington, DC 20503 (202) 395-7316. Please refer to “OMB Control No. 2900-0609” in any correspondence.

SUPPLEMENTARY INFORMATION:

Titles

a. Veteran Enrollees' Health and Reliance Upon VA, VA Form 10-21034g.

b. New Enrollees Survey, VA Form 10-21034h(NR).

OMB Control Number: 2900-0609.

Type of Review: Revision of a currently approved collection.

Abstract: Pub. L. 104-262, The Veterans Health Care Eligibility Reform Act of 1996, mandated VA to implement eligibility reforms with an annual enrollment. VA must enroll veterans by specified priorities as far down the priorities as the available resources permit. There is no valid, recent information available in administrative databases on all enrollees' health status, income, and their reliance upon the VA system. The magnitude of changes each year in enrollees, their characteristics, and system policies make annual surveys necessary to capture this critical information for input into VHA's Health Care Services Demand Model. Data will be used to analyze the main reasons veterans enroll in the VA Health Care System and how long they waited for initial appointments.

An agency may not conduct or sponsor, and a person is not required to respond to a collection of information unless it displays a currently valid OMB control number. The Federal Register notice with a 60-day comment period soliciting comments on this collection of information was published on October 15, 2002, at page 63735.

Affected Public: Individuals or Households.

Estimated Annual Burden: 11,042 hours.

a. Veteran Enrollees' Health and Reliance Upon VA, VA Form 10-21034g—9,375 hours.

b. New Enrollees Survey, VA Form 10-21034h (NR)—1,667 hours.

Estimated Average Burden Per Respondent: 12 minutes.

a. Veteran Enrollees' Health and Reliance Upon VA, VA Form 10-21034g—15 minutes.

b. New Enrollees Survey, VA Form 10-21034h (NR)—5 minutes.

Frequency of Response: Annually.

Estimated Number of Respondents: 57,500.

a. Veteran Enrollees' Health and Reliance Upon VA, VA Form 10-21034g—37,500.

b. New Enrollees Survey, VA Form 10-21034h (NR)—20,000.

Dated: December 17, 2002.
By direction of the Secretary.
Ernesto Castro,
Director, Records Management Service.

[FR Doc. 02-32981 Filed 12-30-02; 8:45 am]

BILLING CODE 8320-01-P